DEPARTMENT OF ENERGY

Federal Energy Regulatory Commission

[Docket Nos. EG11-33-000 et al.]

Notice of Effectiveness of Exempt Wholesale Generator Status

Windstar Energy, LLC | Docket No. EG11-33-000.
Hatchet Ridge Wind 2010-B | Docket No. EG11-34-000.
Hatchet Ridge Wind 2010-B, Hatchet Ridge Wind 2010-A | Docket No. EG11-35-000.
Alta Wind II Owner Lessor C | Docket No. EG11-36-000.
Vermont Wind, LLC | Docket No. EG11-37-000.
Alta Wind II Owner Lessor E | Docket No. EG11-38-000.
Alta Wind II Owner Lessor D | Docket No. EG11-39-000.
Alta Wind II Owner Lessor B | Docket No. EG11-40-000.
Alta Wind II Owner Lessor A | Docket No. EG11-41-000.
Iberdrola Renewables, Inc | Docket No. EG11-42-000.

Take notice that during the month of January 2011, the status of the above-captioned entities as Exempt Wholesale Generators became effective by operation of the Commission's regulations 18 CFR 366.7(a).

Dated: March 7, 2011.
Kimberly D. Bose,
Secretary.

[FR Doc. 2011-5709 Filed 3-11-11; 8:45 am]

BILLING CODE 6717-01-P